DEPARTMENT OF TRANSPORTATION

Federal Aviation Administration

Public Notice for Waiver of Aeronautical Land-Use Assurance

AGENCY: Federal Aviation Administration (FAA), DOT.

ACTION: Notice of intent of waiver with respect to land; Terre Haute International Airport; Terre Haute, Indiana.

SUMMARY: The FAA is considering a proposal to change a portion of airport land from aeronautical use to non-aeronautical use and to authorize the transfer of airport property (as a part of a land swap) located at Terre Haute International Airport, Terre Haute, Indiana. The aforementioned land is not needed for aeronautical use.

The proposal consists of 6.374 acres located in the northeastern section of airport property that is not being used by the airport presently, to be transferred to the Indiana Department of Transportation (INDOT) in exchange for the section of State Road 342 (2.05 acres) that is within the Runway 23 Runway Protection Zone (RPZ). SR342 is the primary access to the Indiana Air National Guard Base at the airport and is the connector road between Frye Road and SR42. INDOT will use the parcel for the construction of Swalls Road, making it the connector to SR 42 from Frye Road maintaining access to the Indiana Air National Guard Base. A larger parcel is required to keep the connection intact between Frye Road and SR 42.

DATES: Comments must be received on or before May 5, 2014.

ADDRESSES: Documents are available for review by appointment at the FAA Airports District Office, Azra Hussain, Program Manager, 2300 E. Devon Avenue, Des Plaines, Illinois 60018 Telephone: (847) 294-8252/Fax: (847) 294-7046 and Kara McIntosh, Deputy Director, Terre Haute International Airport, Terre Haute, Indiana, Telephone: 812-877-2524.

Written comments on the Sponsor's request must be delivered or mailed to: Azra Hussain, Program Manager, Federal Aviation Administration, Airports District Office, 2300 E. Devon Avenue, Des Plaines, Illinois 60018. Fax Number (847) 294-7046.

FOR FURTHER INFORMATION CONTACT: Azra Hussain, Program Manager, Federal Aviation Administration, Airports District Office, 2300 E. Devon Avenue, Des Plaines, Illinois 60018. Telephone Number: (847) 294-8252/FAX Number: (847) 294-7046.

SUPPLEMENTARY INFORMATION: In accordance with section 47107(h) of Title 49, United States Code, this notice is required to be published in the Federal Register 30 days before modifying the land-use assurance that requires the property to be used for an aeronautical purpose.

The subject land consists of a section of land running through a larger parcel (approx. 128.168 acres) that was acquired by Terre Haute International Airport Authority, dated May 01, 2002 for the sum of $350,305.50 using airport funds. While the land was not obtained with federal grant funds, the airport intends to seek reimbursement for the purchase with future entitlement funds. The Terre Haute International Airport Authority intends to swap the property for the section of State Road 342 (2.3 acres) which is owned by the Indiana Department of Transportation that is located in the Runway 23, Runway Protection Zone (RPZ) to allow for the construction of Swalls Road (6.374 acres). While the size of parcels is not identical, 6.374 acres is required to construct Swalls road connecting SR 42 with Frye Road, resulting in the closure of State Road 342 in the RPZ. The aforementioned land is not needed for aeronautical use, as shown on the Airport Layout Plan. There are no impacts to the airport by allowing the airport to dispose of the property.

The disposition of proceeds from the sale of the airport property will be in accordance with FAA's Policy and Procedures Concerning the Use of Airport Revenue, published in the Federal Register on February 16, 1999 (64 FR 7696).

This notice announces that the FAA is considering the release of the subject airport property at Terre Haute International Airport, Terre Haute, Indiana, subject to a reservation for continuing right of flight as well as restrictions on the released property as required in FAA Order 5190.6B section 22.16.Approval does not constitute a commitment by the FAA to financially assist in the disposal of the subject airport property nor a determination that all measures covered by the program are eligible for grant-in-aid funding from the FAA.

Dated: Issued in Des Plaines, Illinois on March 28, 2014.
James Keefer,
Manager, Chicago Airports District Office, FAA, Great Lakes Region.

[FR Doc. 2014-07463 Filed 4-2-14; 8:45 am]

BILLING CODE 4910-13-P